DEPARTMENT OF LABOR

Employment and Training Administration

[TA-W-52,597]

Sure-Fit, Inc., Allentown, PA; Notice of Termination of Investigation

Pursuant to section 221 of the Trade Act of 1974, as amended, an investigation was initiated on August 18, 2003 in response to a worker petition filed on behalf of workers at Sure-Fit, Inc., Allentown, Pennsylvania.

The petitioners have requested that the petition be withdrawn. Consequently, the investigation has been terminated.

Signed at Washington, DC this 25th day of September, 2003.
Richard Church,
Certifying Officer, Division of Trade Adjustment Assistance.

[FR Doc. 03-27934 Filed 11-5-03; 8:45 am]

BILLING CODE 4510-30-P